DEPARTMENT OF HOMELAND SECURITY

Federal Emergency Management Agency

[Docket ID: FEMA-2024-0010]

Public Assistance Program and Policy Guide, FP 104-009-2

AGENCY: Federal Emergency Management Agency, Department of Homeland Security.

ACTION: Notice of availability; request for comment.

SUMMARY: The Federal Emergency Management Agency (FEMA) is accepting comments on proposed revisions to the Public Assistance Program and Policy Guide (PAPPG) Version 5.

DATES: Comments must be received no later than August 19, 2024.

ADDRESSES: You may submit comments, identified by Docket ID: FEMA-2024-0010, via the Federal eRulemaking Portal: https://www.regulations.gov. Follow the instructions for submitting comments.

FOR FURTHER INFORMATION CONTACT: Robert Pesapane, Director, Public Assistance Division, Federal Emergency Management Agency, fema-recovery-pa-policy@fema.dhs.gov, (202) 646-3834.

SUPPLEMENTARY INFORMATION:

I. Public Participation

Interested persons are invited to submit comments and related materials. We will consider all comments and materials received during the comment period.

If you submit a comment, include the docket ID, indicate the specific section of this document to which each comment applies, and give the reason for each comment. All submissions may be posted, without change, to the public docket at https://www.regulations.gov, and will include any personal information you provide. Therefore, submitting this information makes it public. For more about privacy and the docket, visit https://www.regulations.gov/privacy-notice.

The proposed policy is available in docket ID FEMA-2024-0010. For access to the docket to read background documents or comments received, go to https://www.regulations.gov and search for the docket ID.

II. Background

The PAPPG contains consolidated Public Assistance (PA) Program policies for the entire disaster recovery life cycle. The PAPPG provides comprehensive PA policy to use when evaluating eligibility. The PAPPG references and provides weblinks to other FEMA policies and documents such as standard operating procedures and job aids that provide detailed instructions for individuals involved with implementing each of the various steps. This proposed version 5 of the PAPPG would streamline ways for our customers to meet requirements through reducing documentation needs to meet eligibility, increase accessibility to the PA program and funding, promote the equitable treatment and timely recovery of communities, and effectuate resilient rebuilding through additional cost-effective hazard mitigation measures. The proposed policy does not have the force and effect of law.

FEMA seeks comment on the proposed policy, which is available online at https://www.regulations.gov under docket ID FEMA-2024-0010. Based on the comments received, FEMA may make appropriate revisions to the proposed policy. When or if FEMA issues a final policy, FEMA will publish a notice of availability in the Federal Register and make the final policy available at https://www.regulations.gov. The final policy will not have the force and effect of law.

Authority: The Robert T. Stafford Disaster Relief and Emergency Assistance Act, as amended (Stafford Act), 42 U.S.C. 5121 et seq.; 44 CFR part 206.

Deanne Criswell,
Administrator, Federal Emergency Management Agency.

[FR Doc. 2024-13306 Filed 6-17-24; 8:45 am]

BILLING CODE 9111-23-P